Title 3—

The President

Proclamation 7514 of December 13, 2001

Wright Brothers Day, 2001

By the President of the United States of America

A Proclamation

On December 17, 1903, from the dunes near Kitty Hawk, North Carolina, Orville Wright made the first manned flight in an engine-powered aircraft. Though the flight only covered 120 feet and lasted just 12 seconds, Orville and his brother Wilbur Wright changed history on that cold and gusty winter day.

Success had not come easily to the Wright brothers. Many thought powered flight impossible; and skeptics called the Wrights dreamers for even entertaining the idea. Undeterred, the Wrights spent years in study, analyzing the flight of birds and experimenting with model airplanes in their bicycle shop in Dayton, Ohio. After many trials and errors, the Wright brothers finally achieved a controlled flight and opened the door to a new world.

On December 17 of each year, we honor the Wright brothers for their contributions to our Nation. Their invention of powered flight made the world community more connected. We have since traveled to the Moon and back, and space shuttles orbit our planet. All of these amazing advances can be traced back to that windy day at Kitty Hawk when the indomitable will of the Wrights persevered to triumph over the supposed impossible.

Air travel now is an essential part of this Nation's everyday life. This proud industry will endure through the new challenges presented by the tragedies of September 11. Joining together as a Nation, we will continue to strengthen security while maintaining the economic and social benefits of an efficient air transportation system.

This Wright Brothers Day we salute all the scientific pioneers and visionaries who, despite the critics, have over come seemingly insurmountable odds and made great advances for man. The Wright brothers' perseverance and creativity can serve as an inspiration for those inventors who will take us to new heights in the 21st century.

The Congress, by a joint resolution approved December 17, 1963 (77 Stat. 402; 36 U.S.C. 143), has designated December 17 of each year as “Wright Brothers Day,” and has authorized and requested the President to issue annually a proclamation inviting the people of the United States to observe that day with appropriate ceremonies and activities.

NOW, THEREFORE, I, GEORGE W. BUSH, President of the United States of America, by virtue of the authority vested in me by the Constitution and laws of the United States, do hereby proclaim December 17, 2001, as Wright Brothers Day.

IN WITNESS WHEREOF, I have hereunto set my hand this thirteenth day of December, in the year of our Lord two thousand one, and of the Independence of the United States of America the two hundred and twenty-sixth.

B

[FR Doc. 01-31208

Filed 12-14-01; 10:38 am]

Billing code 3195-01-P